ENVIRONMENTAL PROTECTION AGENCY

[EPA-R08-OAR-2014-0236; FRL-9917-35-Region-8]

Adequacy Determination for Lamar and Steamboat Springs PM10 Maintenance Plans' Motor Vehicle Emissions Budgets for Transportation Conformity Purposes; State of Colorado

AGENCY: Environmental Protection Agency.

ACTION: Notice of adequacy.

SUMMARY: In this notice, the Environmental Protection Agency (EPA) is notifying the public that the Agency has found the following adequate for transportation conformity purposes: The “Revised PM10 Maintenance Plan for the Lamar Attainment/Maintenance Area” and its motor vehicle emissions budget, and the “Revised PM10 Maintenance Plan for the Steamboat Springs Attainment/Maintenance Area” and its motor vehicle emissions budget. As more fully explained in the Supplementary Information section of this notice, this finding will affect future transportation conformity determinations.

DATES: This finding is effective on October 20, 2014.

FOR FURTHER INFORMATION CONTACT: Tim Russ, Air Program, Mailcode 8P-AR, Environmental Protection Agency, Region 8, 1595 Wynkoop Street, Denver, Colorado 80202-1129, telephone number (303) 312-6479, fax number (303) 312-6064, or email russ.tim@epa.gov.

SUPPLEMENTARY INFORMATION: Throughout this document, whenever “we,” “us,” or “our,” are used, we mean EPA. Whenever “State” is used, we mean the State of Colorado.

Transportation conformity is required by section 176(c) of the Clean Air Act (CAA). The conformity rule provisions at 40 CFR 93 require that transportation plans, programs, and projects conform to a State Implementation Plan (SIP) and establish the criteria and procedures for determining whether or not they do. Conformity to a SIP means that transportation activities will not produce new air quality violations, worsen existing violations, or delay timely attainment of the National Ambient Air Quality Standard (NAAQS).

The criteria by which we determine whether a SIP revision's motor vehicle emissions budget (MVEB) is adequate for conformity purposes are outlined in 40 CFR 93.118(e)(4), which was promulgated August 15, 1997 (62 FR 43780). We described our process for determining the adequacy of submitted SIP MVEBs in our July 1, 2004 Transportation Conformity Rule Amendments (69 FR 40004). We used these resources in making our adequacy determinations announced in this notice.

This notice is simply an announcement of findings that we have already made and are as described below:

Lamar (PM10): The State submitted the “Revised PM10 Maintenance Plan for the Lamar Attainment/Maintenance Area” ¹ on May 13, 2013. The State prepared the submittal to meet the requirements of section 175A(b) of the CAA for a second 10-year maintenance plan. We posted the “Revised PM10 Maintenance Plan for the Lamar Attainment/Maintenance Area” for adequacy review on EPA's transportation conformity Web site on November 15, 2013. The public comment period closed on December 16, 2013, and we did not receive any comments in response to the adequacy review posting (see http://www.epa.gov/otaq/stateresources/transconf/currsips.htm#lamar-co). EPA sent a letter to the Colorado Department of Public Health and Environment (CDPHE) on January 23, 2014, stating that the submitted Lamar PM10 second 10-year maintenance plan and the 2025 PM10 MVEB were adequate for transportation conformity purposes.

¹ PM10 refers to particulate matter less than or equal to 10 microns in diameter.

Steamboat Springs (PM10): The State submitted the “Revised PM10 Maintenance Plan for the Steamboat Springs Attainment/Maintenance Area” on May 11, 2012. The State prepared the submittal to meet the requirements of section 175A(b) of the CAA for a second 10-year maintenance plan. We posted the “Revised PM10 Maintenance Plan for the Steamboat Springs Attainment/Maintenance Area” for adequacy review on EPA's transportation conformity Web site on November 15, 2013. The public comment period closed on December 16, 2013, and we did not receive any comments in response to the adequacy review posting (see http://www.epa.gov/otaq/stateresources/transconf/currsips.htm#steam-spr-co). EPA sent a letter to the CDPHE on January 23, 2014, stating that the submitted Steamboat Springs PM10 second 10-year maintenance plan and the 2024 PM10 MVEB were adequate for transportation conformity purposes.

For the Lamar PM10 maintenance area, the MVEB we found adequate is 764 pounds of PM10 per day in 2025. Following the effective date listed in the DATES section of this notice, the Colorado Department of Transportation and the U.S. Department of Transportation are required to use this motor vehicle emissions budget for future transportation conformity determinations for projects in the Lamar PM10 maintenance area. For the Steamboat Springs PM10 maintenance area, the MVEB we found adequate is 1,103 pounds of PM10 per day in 2024. Following the effective date listed in the DATES section of this notice, the Colorado Department of Transportation and the U.S. Department of Transportation are required to use this motor vehicle emissions budget for future transportation conformity determinations for projects in the Steamboat Springs PM10 maintenance area.

Please note that our adequacy review described above is separate from our rulemaking action on the two maintenance plans discussed above and should not be used to prejudge our ultimate approval or disapproval of each of the SIP revisions. Even if we find a maintenance plan and its MVEB adequate for transportation conformity purposes now, we may later find it necessary to disapprove the SIP revision. Should this situation arise, we would then revisit our adequacy finding.

Authority: 42 U.S.C. 7401 et seq.

Dated: September 4, 2014.
Shaun L. McGrath,
Regional Administrator, Region 8.

[FR Doc. 2014-23636 Filed 10-2-14; 8:45 am]

BILLING CODE 6560-50-P